COMMISSION ON CIVIL RIGHTS

Agenda and Notice of Public Meeting of the Utah Advisory Committee

Notice is hereby given, pursuant to the provisions of the rules and regulations of the U.S. Commission on Civil Rights and the regulations of the Federal Advisory Committee Act (FACA), that a meeting of the Utah Advisory Committee will convene at 6 p.m. and adjourn at 7:30 p.m. (MST) on Thursday, February 24, 2011 at the City and County Building, 451 South State Street, Cannon Room 335, Salt Lake City, UT 84111. The purpose of the meeting is for the committee to discuss recent Commission and regional activities, discuss current civil rights issues in the State and plan future activities that include a civil rights resource directory, immigration, and issues affecting minority students as it prepares to select a project topic.

Members of the public are entitled to submit written comments; the comments must be received in the regional office by March 24, 2011. The address is Rocky Mountain Regional Office, 999-18th Street, Suite 1380S, Denver, CO 80202. Persons wishing to e-mail their comments, or who desire additional information should contact Malee Craft, Regional Director, at 303-866-1040 or by e-mail to: mcraft@usccr.gov.

Hearing-impaired persons who will attend the meeting and require the services of a sign language interpreter should contact the Regional Office at least ten (10) working days before the scheduled date of the meeting.

Records generated from this meeting may be inspected and reproduced at the Rocky Mountain Regional Office, as they become available, both before and after the meeting. Persons interested in the work of this advisory committee are advised to go to the Commission's Web site, http://www.usccr.gov, or to contact the Rocky Mountain Regional Office at the above e-mail or street address.

The meeting will be conducted pursuant to the provisions of the rules and regulations of the Commission and FACA.

Dated in Washington, DC on January 24, 2011.
Peter Minarik,
Acting Chief, Regional Programs Coordination Unit.

[FR Doc. 2011-1799 Filed 1-26-11; 8:45 am]

BILLING CODE 6335-01-P